DEPARTMENT OF TRANSPORTATION

Research and Special Programs Administration

[Docket RSPA-98-4957 Notice 26]

Agency Information Collection Activities: Proposed Collection; Comment Request

ACTION: Request for public comment.

AGENCY: Research and Special Programs Administration, DOT.

SUMMARY: In accordance with the Paperwork Reduction Act of 1995, the Research and Special Programs Administration (RSPA) is requesting to renew its information collection “Reporting of Safety-Related Conditions on Gas, Hazardous Liquid and Carbon Dioxide Pipelines and Liquefied Natural Gas Facilities”. The public has 60 days to provide comments.

FOR FURTHER INFORMATION CONTACT: Marvin Fell, Office of Pipeline Safety, Research and Special Programs Administration, U.S. Department of Transportation 400 Seventh Street, SW., Washington, DC 20590, (202) 366-6205, or by Fax (202) 366-4566, or via electronic mail at marvin.fell@rspa.dot.gov.

SUPPLEMENTARY INFORMATION: Title: Reporting of Safety-Related Conditions on Gas, Hazardous Liquid, and Carbon Dioxide Pipelines and Liquefied Natural Gas Facilities.

OMB Number: 2137-0578.

Type of Request: Renewal of existing information collection.

Abstract: 49 U.S.C. 60102 requires each operator of a pipeline facility (except master meter) to submit to the Department of Transportation a written report on any safety-related condition that causes or has caused a significant change or restriction in the operation of pipeline facility or a condition that is a hazard to life, property or the environment.

Estimate of Burden: The average burden hour per response is 6 hours.

Respondents: Pipeline and Liquefied Natural Gas facility operators.

Estimated response per year: 47.

Estimated Total Annual Burden on Respondents: 282 hours.

Frequency: On occasion.

Use: To alert RSPA of hazardous conditions that might continue uncorrected.

Copies of this information can be reviewed at the Dockets Unit, Plaza 401, U.S. Department of Transportation, 400 Seventh Street, SW, Washington, D.C., 10 a.m. to 4 p.m. Monday through Friday excluding Federal Holidays or through the internet at dms.dot.gov.

Comments are invited on (a) the need for the proposed collection of information for the proper performance of the functions of the agency, including whether the information will have practical utility: (b) the accuracy of the agency's estimate of the burden of the proposed collection of information including the validity of the methodology and assumptions used; (c) ways to enhance the quality, utility, and clarity of the information to be collected; and (d) ways to minimize the burden of the collection of information on those who respond including the use of the appropriate automated, electronic, mechanical, or other technological collection techniques. Send comments to Dockets Unit, Plaza 401, U.S. Department of Transportation, 400 Seventh Street, SW., Washington, DC 20590 or via e-mail to dms.dot.gov. Please be sure to include the docket number 4957.

Issued in Washington, DC on February 9, 2001.
Stacey L. Gerard,
Associate Administrator for Pipeline Safety.

[FR Doc. 01-3830 Filed 2-14-01; 8:45 am]

BILLING CODE 4910-60-P